DEPARTMENT OF COMMERCE

International Trade Administration

[A-557-816]

Certain Steel Nails From Malaysia: Preliminary Results and Rescission, In Part, of Antidumping Duty Administrative Review; 2023-2024

AGENCY: Enforcement and Compliance, International Trade Administration, Department of Commerce.

SUMMARY: The U.S. Department of Commerce (Commerce) preliminarily finds that producers and/or exporters subject to this administrative review made sales of subject merchandise at less than normal value (NV) during the period of review (POR) is July 1, 2023, through June 30, 2024. Moreover, Commerce is rescinding the review, in part, with respect to certain companies which had no entries of subject merchandise during the POR. Interested parties are invited to comment on these preliminary results.

DATES: Applicable January 8, 2026.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On July 13, 2015, Commerce published in the Federal Register an antidumping duty order on certain steel nails from Malaysia.¹ On August 14, 2024, based on timely requests for review, Commerce published the notice of initiation of the administrative review of the Order, covering 47 companies.²

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 89 FR 66035 (August 14, 2024).

On December 9, 2024, Commerce tolled certain deadlines in this administrative proceeding by 90 days.³ On June 25, 2025, Commerce extended the time limit for these preliminary results to October 21, 2025, in accordance with section 751(a)(3)(A) of the Tariff Act of 1930, as amended (the Act).⁴ Due to the lapse in appropriations and Federal Government shutdown, on November 14, 2025, Commerce tolled all deadlines in administrative proceedings by 47 days.⁵ Additionally, due to a backlog of documents that were electronically filed via Enforcement and Compliance's Antidumping and Countervailing Duty Centralized Electronic Service System (ACCESS) during the Federal Government shutdown, on November 24, 2025, Commerce tolled all deadlines in administrative proceedings by an additional 21 days.⁶ On December 22, 2025, Commerce extended the time limit for these preliminary results in accordance with section 751(a)(3)(A).⁷ Accordingly, the deadline for these preliminary results is now January 5, 2026.

³ See Memorandum, “Tolling of Deadlines for Antidumping and Countervailing Duty Proceedings,” dated December 9, 2024.

⁴ See Memorandum, “Extension of Deadline for Preliminary Results of Antidumping Duty Administrative Review,” dated June 25, 2025.

⁵ See Memorandum, “Deadlines Affected by the Shutdown of the Federal Government,” dated November 14, 2025.

⁶ See Memorandum, “Tolling of all Case Deadlines,” dated November 24, 2025.

⁷ See Memorandum, “Extension of Deadline for Preliminary Results of Antidumping Duty Administrative Review,” dated December 22, 2025.

For a complete description of the events that followed the administrative review, see the Preliminary Decision Memorandum.⁸ A list of topics included in the Preliminary Decision Memorandum is included as Appendix I to this notice. The Preliminary Decision Memorandum is a public document and is on file electronically via Enforcement and Compliance's ACCESS. ACCESS is available to registered users at https://access.trade.gov. In addition, a complete version of the Preliminary Decision Memorandum can be accessed directly at https://access.trade.gov/public/FRNoticesListLayout.aspx.

⁸ See Memorandum, “Decision Memorandum for the Preliminary Results of the Administrative Review of the Antidumping Duty on Certain Steel Nails from Malaysia” dated concurrently with, and hereby adopted by, this notice (Preliminary Decision Memorandum).

Scope of the Order

The products covered by the scope of the Order are certain steel nails from Malaysia. For a complete description of the scope of the Order, see the Preliminary Decision Memorandum.⁹

⁹ Id.

Rescission of Review, In Part

Pursuant to 19 CFR 351.213(d)(3), Commerce will rescind an administrative review of an AD order when there are no viewable entries of subject merchandise during the POR for which liquidation is suspended. Normally, upon completion of an administrative review, the suspended entries are liquidated at the antidumping duty assessment rate calculated for the review period.¹⁰ Therefore, for an administrative review to be conducted, there must be a reviewable, suspended entry that Commerce can instruct U.S. Customs and Border Protection (CBP) to liquidate at the antidumping duty assessment rate calculated for the review period.¹¹

¹⁰ See 19 CFR 351.212(b)(1).

¹¹ See 19 CFR 351.213(d)(3).

On December 20, 2024, we issued a memorandum to all interested parties, listing 39 companies for which we initiated this administrative review and for which there was no evidence of any suspended entries during the POR.¹² See Appendix II for a list of these companies. We invited parties to comment, and received no comments. Accordingly, in the absence of suspended entries of subject merchandise during the POR, we are hereby rescinding this administrative review for these 39 companies, in accordance with 19 CFR 351.213(d)(3).

¹² See Memorandum, “Notice of Intent to Rescind Review, In Part,” dated December 20, 2024.

Methodology

Commerce is conducting this administrative review in accordance with section 751(a)(2) of the Act. Commerce has calculated export prices in accordance with section 772(a) of the Act. Normal value is calculated in accordance with section 773 of the Act. In addition, Commerce has relied on partial facts available under section 776(a)(1), 776 (b)(1)(A), and 776(b)(2)(D) of the Act for Region International Co., Ltd. and Region System Sdn. Bhd. (collectively, Region). In addition, Commerce has relied on total adverse facts available (AFA) under sections 776(a) and (b) of the Act for Madura Fasteners Sdn. Bhd (Madura). For a full description of the methodology underlying the preliminary results, see the Preliminary Decision Memorandum.

Rate for Non-Selected Respondents

Sections 733(d)(1)(ii) and 735(c)(5)(A) of the Act provide that in the preliminary results Commerce shall determine an estimated all-others rate for all exporters and producers not individually examined. This rate shall be an amount equal to the weighted average of the estimated weighted-average dumping margins established for exporters and producers individually investigated, excluding any zero and de minimis margins, and any margins determined entirely under section 776 of the Act.

In this administrative review, Commerce preliminarily assigned a margin based entirely on AFA to Madura. Therefore, the only rate that is not zero, de minimis or based entirely on facts otherwise available is the rate calculated for Region. Consequently, pursuant to our normal practice, the rate calculated for Region is also assigned as the rate for all other producers and exporters.¹³ Accordingly, the preliminary margin for non-selected respondents is 1.90 percent.¹⁴

¹³ See, e.g., Multilayered Wood Flooring from the People's Republic of China: Final Determination of Sales at Less Than Fair Value, 76 FR 64318 (October 18, 2011), and accompanying Issues and Decision Memorandum (IDM), at Comment 11.

¹⁴ See Appendix III.

Preliminary Results of the Review

We preliminarily determine that the following estimated weighted-average dumping margins exist for the period July 1, 2023, through June 30, 2024:

¹⁵ Commerce continues to find that Region International Co. Ltd. and Region System Sdn. Bhd. are collapsed as a single entity, in accordance to prior reviews. See Certain Steel Nails from Malaysia: Final Results of the Antidumping Duty Administrative Review; 2017-2018, 85 FR 14461 (March 12, 2020), and accompanying PDM.

¹⁶ See Appendix III for the non-selected companies under review receiving a review-specific rate.

Exporter/producer | Weighted-average dumping margin (percent)
Region International Co. Ltd./Region System Sdn. Bhd.¹⁵ | 1.90
Madura Fasteners Sdn. Bhd | 39.35
Review-Specific Rate for Non-Selected Companies ¹⁶ | 1.90

Disclosure

Commerce intends to disclose its calculations and analysis performed to interested parties in these preliminary results within five days of any public announcement or, if there is no public announcement, within five days of the date of publication of this notice in accordance with 19 CFR 351.224(b).

Public Comment

Case briefs or other written comments may be submitted to the Assistant Secretary for Enforcement and Compliance.¹⁷ Pursuant to 19 CFR 351.309(c)(1)(ii), the deadline for interested parties to submit case briefs to Commerce is no later than 21 days after the date of the publication of this notice. Rebuttal briefs, limited to issues raised in the case briefs, may be filed not later than five days after the date for filing case briefs.¹⁸ Interested parties who submit case briefs or rebuttal briefs in this proceeding must submit: (1) a table of contents listing each issue; and (2) a table of authorities.¹⁹

¹⁷ See 19 CFR 351.309(c)(1)(ii); see also 19 CFR 351.303 (for general filing requirements).

¹⁸ See 19 CFR 351.309(d); see also Administrative Protective Order, Service, and Other Procedures in Antidumping and Countervailing Duty Proceedings, 88 FR 67069, 67077 (September 29, 2023) (APO and Service Procedures).

¹⁹ See 19 CFR 351.309(c)(2) and (d)(2).

As provided under 19 CFR 351.309(c)(2)(iii) and (d)(2)(iii), we request that interested parties provide at the beginning of their briefs a public, executive summary for each issue raised in their briefs.²⁰ Further, we request that interested parties limit their executive summary of each issue to no more than 450 words, not including citations. We intend to use the public executive summaries as the basis of the comment summaries included in the issues and decision memorandum that will accompany the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Procedures.

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants, whether any participant is a foreign national; and (3) a list of the issues to be discussed. If a request for a hearing is made, Commerce intends to hold the hearing at a time and date to be determined.²² Parties should confirm by telephone the date, time, and location of the hearing two days before the scheduled date.

²² See 19 CFR 351.310(d).

All submissions, including case and rebuttal briefs, as well as hearing requests, should be filed via ACCESS.²³ An electronically filed document must be received successfully in its entirety by ACCESS by 5:00 p.m. Eastern Time on the established deadline.

²³ See 19 CFR 351.303.

Final Results of Review

Commerce intends to issue the final results of this administrative review, including the results of its analysis of the issues raised in any written briefs, no later than 120 days after the date of publication of this notice in the Federal Register, unless extended, pursuant to section 751(a)(3)(A) of the Act and 19 CFR 351.213(h)(1).

Assessment Rates

Upon completion of this administrative review, pursuant to section 751(a)(2)(A) of the Act, Commerce shall determine, and U.S. Customs and Border Protection (CBP) shall assess, antidumping duties on all appropriate entries covered by this review.²⁴ If the weighted-average dumping margin for a mandatory respondent is not zero or de minimis (i.e., less than 0.5 percent) in the final results of this review, we will calculate an importer-specific assessment rate on the basis of the ratio of the total amount of dumping calculated for each importer's examined sales and the total entered value of such sales in accordance with 19 CFR 351.212(b)(1).²⁵ If the weighted-average dumping margin is zero or de minimis in the final results of review, or if an importer-specific assessment rate is zero or de minimis, Commerce will instruct CBP to liquidate appropriate entries without regard to antidumping duties.²⁶ For entries of subject merchandise during the POR produced by the respondents for which it did not know its merchandise was destined for the United States, we will instruct CBP to liquidate such entries at the all-others rate if there is no rate for the intermediate companies involved in the transaction.²⁷ The final results of this administrative review shall be the basis for the assessment of antidumping duties on entries of merchandise under review and for future cash deposits of estimated antidumping duties, where applicable.

²⁴ Id.

²⁵ See Antidumping Proceedings: Calculation of the Weighted-Average Dumping Margin and Assessment Rate in Certain Antidumping Proceedings: Final Modification, 77 FR 8101, 8103 (February 14, 2012).

²⁶ Id. 77 FR at 8102-03; see also 19 CFR 351.106(c)(2).

²⁷ See Antidumping and Countervailing Duty Proceedings: Assessment of Antidumping Duties, 68 FR 23954 (May 6, 2003).

For the listed companies in Appendix II, for which we are rescinding this administrative review, antidumping duties shall be assessed at rates equal to the cash deposit of estimated antidumping duties required at the time of entry, or withdrawal from warehouse, for consumption, during the period of review, in accordance with 19 CFR 351.212(c)(1)(i). For the listed companies in Appendix II, Commerce intends to issue assessment instructions to CBP no earlier than 35 days after the date of publication of these preliminary results in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of Antidumping duties on entries of merchandise under review and for future cash deposits of estimated antidumping duties, where applicable.²⁸

²⁸ See section 751(a)(2)(C) of the Act.

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 2.66 percent, the all-others rate established in the less-than-fair-value investigation.²⁹ These cash deposit requirements, when imposed, shall remain in effect until further notice.

²⁹ Certain Steel Nails from Malaysia: Final Determination of Sales at Less Than Fair Value, 80 FR 28969 (May 20, 2015).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act and 19 CFR 351.221.

Dated: January 5, 2026.
Christopher Abbott,
Deputy Assistant Secretary for Policy Assistant Secretary, performing the non-exclusive functions and duties of the Assistant Secretary for Enforcement and Compliance.

Appendix I

List of Topics Discussed in the Preliminary Decision Memorandum

I. Summary

II. Background

III. Scope of the Order

IV. Application of Facts Available and Use of Adverse Inference

V. Discussion of the Methodology

VI. Currency Conversion

VII. Recommendation

Appendix II

Companies Rescinded From Review

1. Alsons Manufacturing India, LLP.

2. Asia Bolts & Nuts Sdn. Bhd.

3. Astrotech Steels Pvt. Ltd.

4. Atlantic Marine Group Ltd.

5. AV Fastener (M) Sdn. Bhd.

6. Best Staples Sdn. Bhd.

7. Chia Pao Metal Co., Ltd.

8. Chin Lai Hardware Sdn. Bhd.

9. Chin Well Fasteners Co.

10. Chuan Heng Hardware Paints and Building Materials Sdn. Bhd.

11. Come Best (Thailand) Co., Ltd.

12. Fastenal Malaysia Sdn. Bhd.

13. Fuji Fastener Manufacturing Sdn. Bhd.

14. Gbo Fastening Systems AB

15. Geekay Wires Limited

16. Gripwell Fastening (M) Sdn. Bhd.

17. Impress Steel Wire Industries Sdn. Bhd.

18. Kerry-Apex (Thailand) Co., Ltd.

19. Kimmu Trading Sdn., Bhd.

20. Modern Factory for Steel Industries Co., Ltd.

21. Multi Venture Resources Sdn. Bhd.

22. Oman Fasteners LLC

23. PrimeSource Building Products Inc.

24. RM Wire Industries Sdn. Bhd.

25. S.H. Chooi Fasteners

26. SK Bolts & Fasteners Sdn. Bhd.

27. Soon Shing Building Materials Sdn. Bhd.

28. Storeit Services LLP

29. Sunmat Industries Sdn., Bhd.

30. Tag Staples Sdn., Bhd.

31. Top Remac Industries

32. Trinity Steel Private Limited

33. UD Industries Sdn., Bhd.

34. Vien Group Sdn., Bhd.

35. Watasan Industries Sdn., Bhd.

36. Wing Tai Fastener Manufacturer

37. Winston Mayer Sdn. Bhd.

38. WWL India Private Ltd.

39. Yew Siong Industrial Supplies Sdn. Bhd.

Appendix III

Non-Selected Companies Receiving the Review-Specific Rate

1. Foison Hardware Inc.

2. Inmax Industries Sdn. Bhd. and Inmax Sdn. Bhd.

3. Kimmu Industries Sdn. Bhd.

4. Tag Fasteners Sdn. Bhd.

5. Tampin Sin Yong Wai Industry Sdn. Bhd.

[FR Doc. 2026-00184 Filed 1-7-26; 8:45 am]

BILLING CODE 3510-DS-P